DEPARTMENT OF HEALTH AND HUMAN SERVICES

Centers for Disease Control and Prevention

[30Day-23-23AA]

Agency Forms Undergoing Paperwork Reduction Act Review

In accordance with the Paperwork Reduction Act of 1995, the Centers for Disease Control and Prevention (CDC) has submitted the information collection request titled “DELTA Achieving Health Equity through Addressing Disparities (AHEAD) Cooperative Agreement Evaluation” to the Office of Management and Budget (OMB) for review and approval. CDC previously published a “Proposed Data Collection Submitted for Public Comment and Recommendations” notice on October 17, 2022 to obtain comments from the public and affected agencies. CDC received four comments to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

DELTA Achieving Health Equity through Addressing Disparities (AHEAD) Cooperative Agreement Evaluation—New—National Center for Injury Prevention and Control (NCIPC), Centers for Disease Control and Prevention (CDC).

Background and Brief Description

The goal of this project is to collect monitoring data for performance and implementation of the cooperative agreement: Domestic Violence Prevention Enhancement and Leadership Through Alliances (DELTA) Achieving Health Equity through Addressing Disparities (AHEAD). The Centers for Disease Control and Prevention (CDC) seeks OMB approval for three years for a New Information Collection Request (ICR) to collect information from 22 recipients (State Domestic Violence Coalitions) and all 32 sub-recipients (Coordinated Community Response Teams) funded through CDC's DELTA AHEAD Program cooperative agreement. CDC will collect information from DELTA AHEAD recipients as part of its program evaluation to assess the implementation and impact of the Notice of Funding Opportunity (NOFO) and further understand the facilitators, barriers, and critical factors to implement specific violence prevention strategies and conduct program evaluation activities.

Intimate Partner Violence (IPV) is a serious, yet preventable public health problem that affects millions of people in the United States each year. Data from CDC's 2015 National Intimate Partner and Sexual Violence Survey indicate that about one in four women and one in 10 men have experienced contact sexual violence, physical violence, and/or stalking by an intimate partner during their lifetime and reported some form of IPV-related impact. This form of violence disproportionately affects marginalized populations in the United States. Evidence suggests an increase in new cases and severity of IPV, particularly for marginalized groups, during the COVID-19 pandemic, pointing to the need to adapt IPV prevention strategies during shutdowns and other national and global emergencies. Such disparities in the risk of IPV are created and maintained through systemic health and social inequities. To achieve health equity requires addressing root causes (e.g., discrimination and biases in societal values, public policy) that differentially disadvantage groups based on characteristics such as race, ethnicity, gender, and ability, and are often expressed as racism, sexism, and disability discrimination. Information to be collected will provide crucial data for program performance monitoring and provide CDC with the capacity to respond in a timely manner to requests for information about the program from the Department of Health and Human Services (HHS), the White House, Congress, and other sources. Information to be collected will also strengthen CDC's ability to monitor awardee progress, provide data-driven technical assistance, and disseminate the most current surveillance data on unintentional and intentional injuries.

Monitoring the impact of population-based strategies and identifying new insights and innovative solutions to health problems are two of the noted public health activities that all public health systems should undertake. For NCIPC, these objectives cannot be satisfied without the systematic collection of data and information from state health departments. The information collection will enable the accurate, reliable, uniform, and timely submission to NCIPC of each awardee's progress report and injury indicators, including strategies and performance measures. Funded recipients are expected to use data to identify populations and environments at differential risk for violence due to inequitable access to conditions needed for health and safety. By increasing equitable access to Social Determinants of Health (SDOH), funded recipients reduce risk factors for and/or increase protective factors against Intimate Partner Violence (IPV). Authorized by the Family Violence and Prevention Services Act (FVPSA), CDC has funded the DELTA Program since 2002. The DELTA program funds State Domestic Violence Coalitions (SDVCs) to implement statewide IPV prevention efforts and assist and fund local communities to do the same.

The information collection and reporting requirements have been carefully designed to align with and support the specific goals and outcomes outlined in the cooperative agreement. This funding opportunity includes two funding options. Category A recipients will have existing high capacity to implement primary prevention strategies and will build upon existing efforts. Category B recipients will focus on gathering publicly available data to better understand gaps in IPV prevention resources, building capacity to implement and evaluate IPV primary prevention in their state and selected communities, and using evaluation data for quality improvement.

Using recipients' annually submitted progress, outcomes, performance indicators and related measures, CDC will aggregate and synthesize those data to inform the CDC evaluation of the cooperative agreement initiative across all recipients to capture program impact at the community and state levels as well as performance monitoring and continuous program improvement. The CDC evaluation will inform and highlight the progress and achievements that recipients are making toward reducing IPV using community and societal level primary prevention approaches in addressing risk and protective factors.

CDC requests OMB approval for an estimated 163 annual burden hours. There is no cost to respondents other than their time to participate.

Estimated Annualized Burden Hours
Type of respondents | Form name | Number of respondents | Number of responses per respondent | Average burden per response (in hours)
DELTA AHEAD State Domestic Violence Coalition (SDVC) Project Leads | Annual Performance Report Key Informant Interview—Project Lead | 13 13 | 1 1 | 10 1
DELTA AHEAD SDVC Evaluators | Key Informant Interview Evaluator | 13 | 1 | 1
DELTA AHEAD SDVC staff—Category B Recipients | Prevention Infrastructure Assessment | 3 | 1 | 30/60
DELTA AHEAD SDVC Staff—Category A Recipients | Health Equity Capacity Assessment | 10 | 1 | 30/60

Jeffrey M. Zirger,
Lead, Information Collection Review Office, Office of Public Health Ethics and Regulations, Office of Science, Centers for Disease Control and Prevention.

[FR Doc. 2023-12356 Filed 6-8-23; 8:45 am]

BILLING CODE 4163-18-P